DEPARTMENT OF TRANSPORTATION

Surface Transportation Board

[STB Finance Docket No. 34921]

Intermountain Railroad LLC—Acquisition and Operation Exemption—Line of Wyoming and Colorado Railroad Company, Inc.

Intermountain Railroad LLC, (IMR),¹ a noncarrier, has filed a verified notice of exemption under 49 CFR 1150.31 to acquire and operate a rail line from Wyoming and Colorado Railroad Company, Inc., extending between milepost 0.57 and approximately milepost 1.07, near Walcott, a distance of approximately 0.5 miles, in Carbon County, WY.

¹ IMR is a wholly owned subsidiary of Intermountain Resources LLC that was formed to acquire and operate the subject line.

IMR certifies that its projected revenues as a result of this transaction will not exceed those that would qualify it as a Class III rail carrier.

IMR stated that the parties intended to consummate the transaction no earlier than on August 14, 2006 (the effective date of the exemption).

If the verified notice contains false or misleading information, the exemption is void ab initio. Petitions to revoke the exemption under 49 U.S.C. 10502(d) may be filed at any time. The filing of a petition to revoke will not automatically stay the transaction.

An original and 10 copies of all pleadings, referring to STB Finance Docket No. 34921 must be filed with the Surface Transportation Board, 1925 K Street, NW., Washington, DC 20423-0001. In addition, one copy of each pleading must be served on Edward J. Fishman, Kirkpatrick & Lockhart Nicholson Graham LLP, 1601 K Street, NW., Washington, DC 20006-1600.

Board decisions and notices are available on our Web site at http://www.stb.dot.gov.

Decided: August 28, 2006.
By the Board, David M. Konschnik, Director, Office of Proceedings.
Vernon A. Williams,
Secretary.

[FR Doc. E6-14635 Filed 9-5-06; 8:45 am]

BILLING CODE 4915-01-P